DEPARTMENT OF DEFENSE

Department of the Army

Western Hemisphere Institute for Security Cooperation Board of Visitors; Meeting

AGENCY: Department of the Army, DoD.

ACTION: Notice of open meeting.

SUMMARY: This notice sets forth the schedule and summary agenda for the inaugural meeting of the Western Hemisphere Institute for Security Cooperation (WHINSEC) Board of Visitors (BoV). Notice Of this meeting is required under the Federal Advisory Committee Act (Pub. L. 92-463). This board was chartered on February 1, 2002 in compliance with the requirements set forth in 10 U.S.C. 2166.

Dates: June 3-4, 2002.

Time: 9 a.m. to 12:30 p.m. and 2 p.m. to 5:15 p.m. (June 3, 2002). 9 a.m. to 2 p.m. (June 4, 2002).

Location: Pratt Hall, Building 35, 7011 Morrison Ave., Fort Benning, GA 31905.

Proposed Agenda: The WHINSEC BoV will elect internal leadership, approve its rules or by-laws, establish its annual schedule and review the WHINSEC operations, activities and curriculum for compliance with the authorizing legislation.

FOR FURTHER INFORMATION CONTACT: Ken LaPlante, Core Processes, Inc., Army G-3 (Room 2D337), 400 Army Pentagon, Washington, DC 20310, telephone (703) 692-7419 or LTC Andres Toro at (703) 692-7421.

SUPPLEMENTARY INFORMATION: The meeting is open to the public. There will be time, specified, for public comments by individuals and organizations at the end of the meeting on June 4. Public comment and presentations will be limited to two minutes each and must be provided in writing and received before Friday, May 24, 2002. Mail written presentations and requests to register to attend the public sessions to: LTC Andres Toro, DAMO-SSR (Rm 2D337), 400 Army Pentagon, Washington, DC 20310-0400. Public seating is limited, and is available on a first come, first served basis.

John C. Speedy, III,
SES, Designated Federal Officer, WHINSEC BoV.

[FR Doc. 02-12178 Filed 5-15-02; 8:45 am]

BILLING CODE 3710-08-M